DEPARTMENT OF TRANSPORTATION

Federal Aviation Administration

Notice of Intent To Rule on Application 02-04-C-00-TOL To Impose and Use the Revenue From a Passenger Facility Charge at Toledo Express Airport, Toledo, OH

AGENCY: Federal Aviation Administration (FAA), DOT.

ACTION: Notice of intent to rule on application.

SUMMARY: The FAA proposes to rule and invites public comment on the application to impose and use the revenue from a Passenger Facility Charge (PFC) at Toledo Express Airport under the provisions of 49 U.S.C. 40117 and part 158 of the Federal Aviation Regulations (14 CFR part 158).

DATES: Comments must be received on or before August 19, 2002.

ADDRESSES: Comments on this application may be mailed or delivered in triplicate to the FAA at the following address: Federal Aviation Administration, Detroit Airports District Office, Willow Run Airport, East, 8820 Beck Road, Belleville, Michigan 48111. The application may be reviewed in person at this location.

In addition, one copy of any comments submitted to the FAA must be mailed or delivered to Mr. Paul L. Toth, Director of Toledo Express Airport at the following address: Toledo-Lucas County Port Authority, 11013 Airport Highway, Box 11, Swanton, Ohio 43558.

Air carriers and foreign air carriers may submit copies of written comments previously provided to the Toledo-Lucas County Port Authority under section 158.23 of part 158.

FOR FURTHER INFORMATION CONTACT: Ms. Arlene B. Draper, Program Manager, Federal Aviation Administration, Detroit Airports District Office, Willow Run Airport, East, 8820 Beck Road Belleville, Michigan 48111, 734-487-7282. The application may be reviewed in person at this same location.

SUPPLEMENTARY INFORMATION: The FAA proposes to rule and invites public comment on the application to impose and use the revenue from a PFC at Toledo Express Airport under the provisions of 49 U.S.C. 40117 and part 158 of the Federal Aviation Regulations (14 CFR part 158).

On July 3, 2002, the FAA determined that the application to impose and use the revenue from a PFC submitted by Toledo-Lucas County Port Authority was substantially complete within the requirements of section 158.25 of part 158. The FAA will approve or disapprove the application, in whole or in part, not later than October 26, 2002.

Level of the proposed PFC: $4.50.

Proposed charge effective date: September 1, 2003.

Proposed charge expiration date: August 1, 2006.

Total estimated PFC revenue: $3,921,997.

Brief description of proposed projects: Terminal roadway reconstruction, reconstruct air carrier, purchase snow removal equipment, terminal renovations, replace aircraft rescue and fire fighting equipment, jet way replacement, taxiway D extension.

Class or classes of air carriers, which the public agency has requested to be required to collect PFCs: Non scheduled/on-demand air taxi operators (ATCO) filing FAA Form 1800-31.

Any person may inspect the application in person at the FAA office listed above under FOR FURTHER INFORMATION CONTACT. In addition, any person may, upon request, inspect the application, notice and other documents germane to the application in person at the Toledo Lucas County Port Authority.

Issued in Des Plaines, Illinois on July 11, 2002.
Mark McClardy,
Manager, Planning and Programming Branch Airports Division, Great Lakes Region.

[FR Doc. 02-18210 Filed 7-18-02; 8:45 am]

BILLING CODE 4910-13-M